DEPARTMENT OF AGRICULTURE

Submission for OMB Review; Comment Request

October 17, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 20, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of Alternatives to Improve Elderly Access to Supplemental Nutrition Assistance Program (SNAP) Study.

OMB Control Number: 0584-NEW.

Summary of Collection: The Food and Nutrition Service (FNS), under authorization of SEC. 17. [7 U.S.C. 2026] of the FOOD AND NUTRITION ACT OF 2008, as amended, intends to conduct the Evaluation of Alternatives to Improve Elderly Access. FNS is interested in exploring whether policy options designed to improve access to the Supplemental Nutrition Assistance Program (SNAP) for the elderly are effective. The objective of the study is to better understand how to maximize elder (60+) access to SNAP.

Need and Use of the Information: This study will provide FNS with a better understanding of the barriers to serving elderly populations in SNAP and the extent to which available policy options improve program access, whether certain program models or combinations are more effective than others, and what tradeoffs exist between program simplification/access goals and ensuring benefit adequacy.

Description of Respondents: Individuals/Households (681); Business-not-for-profit (90) and State, Local & Tribal agencies (253).

Number of Respondents: 1,024.

Frequency of Responses: Reporting: Once.

Total Burden Hours: 1,380.

Ruth Brown,
Departmental Information Collection Clearance Officer.

[FR Doc. 2017-22793 Filed 10-19-17; 8:45 am]

BILLING CODE 3410-30-P